DEPARTMENT OF HEALTH AND HUMAN SERVICES

Centers for Disease Control and Prevention

Disease, Disability, and Injury Prevention and Control Special Emphasis Panel (SEP): Maternal Vitamin D Status and Preterm Birth, DP11-002, Initial Review

Correction: The notice was published in the Federal Register on December 17, 2010, Volume 75, Number 242, Page 78999. The time and date should read as follows:

Time and Date: 11 a.m.-5 p.m., April 12, 2011 (Closed).

Contact Person for More Information: Donald Blackman, Ph.D., Scientific Review Officer, CDC, National Center for Chronic Disease Prevention and Health Promotion, Office of the Director, Extramural Research Program Office, 4770 Buford Highway, NE., Mailstop K-92, Atlanta, Georgia 30341, Telephone: (770) 488-3023, E-mail: DBY7@cdc.gov.

The Director, Management Analysis and Services Office, has been delegated the authority to sign Federal Register notices pertaining to announcements of meetings and other committee management activities, for both the Centers for Disease Control and Prevention and the Agency for Toxic Substances and Disease Registry.

Dated: February 17, 2011.
Elaine L. Baker,
Director, Management Analysis and Services Office, Centers for Disease Control and Prevention.

[FR Doc. 2011-4305 Filed 2-25-11; 8:45 am]

BILLING CODE 4163-18-P